DEPARTMENT OF TRANSPORTATION

Federal Aviation Administration

Notice of Release From Surplus Property Deed Obligations at Luke Auxiliary Airfield #6, Buckeye, Maricopa County, Arizona

AGENCY: Federal Aviation Administration, DOT.

ACTION: Notice of request to release airport land.

SUMMARY: The Federal Aviation Administration (FAA) proposes to rule and invites public comment on the application for a release of approximately 2.99 acres of airport property at Luke Auxiliary Airfield #6, Buckeye, Maricopa County, Arizona from all conditions contained in the Surplus Property Deed since the parcel of land is not needed for airport purposes. The reuse of the land for a roadway improvement project by the City of Buckeye represents an acceptable disposition of the land that is not being used for airport purposes. The property will be sold for its fair market value and the proceeds used for an airport purpose, thus serving the interests of civil aviation.

DATES: Comments must be received on or before October 2, 2015.

FOR FURTHER INFORMATION CONTACT: Comments on the request may be mailed or delivered to the FAA at the following address: Mike N. Williams, Manager, Airports District Office, Federal Register Comment, Federal Aviation Administration, Phoenix Airports District Office, 3800 N. Central Avenue, Suite 1025, Phoenix, Arizona 85012. In addition, one copy of the comment submitted to the FAA must be mailed or delivered to Ruben Ojeda, Right of Way Section Manager, Arizona State Land Department, 1616 W. Adams Street, Phoenix, Arizona 85007-3212.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The Arizona State Land Department, Phoenix, Maricopa County, Arizona requested a release from the conditions contained in the Surplus Property Deed for approximately 2.99 acres of airport land. The property is located on the southern and northern sides of the former airfield, on the north side of Yuma Road and the south of Van Buren Street. The land is presently unused and undeveloped. The land is needed for roadway improvements by the City of Buckeye. The Arizona State Land Department agrees to the sale of the land to the City of Buckeye since the property is not needed or being used for airport purposes. The project will aid traffic flow for the City of Buckeye. The sale price will be based on its appraised market value and the sale proceeds will be used for airport purposes by the State. The use of the property for a public roadway will not affect the remainder of the airfield property. The State will be properly compensated, thereby serving the interests of civil aviation.

Issued in Hawthorne, California, on August 25, 2015.
Brian Q. Armstrong,
Manager, Safety and Standards, Airports Division, Western-Pacific Region.

[FR Doc. 2015-21781 Filed 9-1-15; 8:45 am]

BILLING CODE 4910-13-P